DEPARTMENT OF COMMERCE

Foreign-Trade Zones Board

[Order No. 1579]

Expansion of Foreign-Trade Zone 64—Jacksonville, FL

Pursuant to its authority under the Foreign-Trade Zones Act of June 18, 1934, as amended (19 U.S.C. 81a-81u), the Foreign-Trade Zones Board (the Board) adopts the following Order:

Whereas, the Jacksonville Port Authority, grantee of Foreign-Trade Zone 64, submitted an application to the Board for authority to expand its zone to include an additional site located at the Westlake Industrial Park in Jacksonville (Site 7-47 acres), to make permanent and designate Site 1A as Site 8, and to clarify the boundary of Site 3 (delete 47 acres), adjacent to the Jacksonville Customs and Border Protection port of entry (FTZ Docket 10-2008, filed 2/21/08, corrected 7/11/08);

Whereas, notice inviting public comment was given in the Federal Register (73 FR 12374, 3/7/08; corrected 73 FR 41315, 7/18/08), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 64 is approved, subject to the FTZ Act and the Board's regulations, including Section 400.28, and subject to a sunset provision that would terminate authority on September 30, 2013 for Site 7 if no activity has occurred under FTZ procedures before that date.

Signed at Washington, DC, this 7th day of October 2008.
David M. Spooner,
Assistant Secretary of Commerce, for Import Administration, Alternate Chairman, Foreign-Trade Zones Board.

Attest:

Andrew McGilvray,

Executive Secretary.

[FR Doc. E8-24750 Filed 10-16-08; 8:45 am]

BILLING CODE 3510-DS-P